DEPARTMENT OF ENERGY

Federal Energy Regulatory Commission

Combined Notice of Filings #1

Take notice that the Commission received the following electric rate filings:

Docket Numbers: ER22-709-004.

Applicants: Missouri Joint Municipal Electric Utility Commission, Southwest Power Pool, Inc.

Description: Compliance filing: Missouri Joint Municipal Electric Utility Commission submits tariff filing per 35: Settlement Compliance Filing of MJMEUC in Response to February 16 Order to be effective 6/1/2022.

Filed Date: 3/15/23.

Accession Number: 20230315-5037.

Comment Date: 5 p.m. ET 4/5/23.

Docket Numbers: ER23-1349-000.

Applicants: Northern States Power Company, a Wisconsin corporation, Northern States Power Company, a Minnesota corporation.

Description: § 205(d) Rate Filing: Northern States Power Company, a Wisconsin corporation submits tariff filing per 35.13(a)(2)(iii: 2023 Interchange Agreement Annual Filing to be effective 1/1/2023.

Filed Date: 3/15/23.

Accession Number: 20230315-5024.

Comment Date: 5 p.m. ET 4/5/23.

Docket Numbers: ER23-1350-000.

Applicants: Midcontinent Independent System Operator, Inc., Ameren Services Company.

Description: § 205(d) Rate Filing: Midcontinent Independent System Operator, Inc. submits tariff filing per 35.13(a)(2)(iii: 2023-03-15_SA 4006 Ameren Missouri-Hannibal Wholesale Connection Agreement to be effective5/15/2023.

Filed Date: 3/15/23.

Accession Number: 20230315-5029.

Comment Date: 5 p.m. ET 4/5/23.

Docket Numbers: ER23-1351-000.

Applicants: Midcontinent Independent System Operator, Inc.

Description: § 205(d) Rate Filing: 2023-03-15_SA 3482 ATC-Wisconsin Electric Power 2nd Rev GIA (J878 J1316) to be effective 3/8/2023.

Filed Date: 3/15/23.

Accession Number: 20230315-5034.

Comment Date: 5 p.m. ET 4/5/23.

Docket Numbers: ER23-1357-000.

Applicants: Tri-State Generation and Transmission Association, Inc.

Description: § 205(d) Rate Filing: Amendment to Rate Schedule FERC No. 27 to be effective 5/15/2023.

Filed Date: 3/15/23.

Accession Number: 20230315-5047.

Comment Date: 5 p.m. ET 4/5/23.

Docket Numbers: ER23-1358-000.

Applicants: AmeriPro Energy Corp.

Description: Baseline eTariff Filing: Application for Market Based Rate Authority to be effective 5/14/2023.

Filed Date: 3/15/23.

Accession Number: 20230315-5048.

Comment Date: 5 p.m. ET 4/5/23.

Docket Numbers: ER23-1361-000.

Applicants: Southwest Power Pool, Inc.

Description: § 205(d) Rate Filing: Revisions to Add Enhanced Language to Attachment V (RR 523) to be effective5/15/2023.

Filed Date: 3/15/23.

Accession Number: 20230315-5052.

Comment Date: 5 p.m. ET 4/5/23.

Docket Numbers: ER23-1362-000.

Applicants: PJM Interconnection, L.L.C.

Description: § 205(d) Rate Filing: ISA, SA No. 6821; Queue No. AF1-040 to be effective 2/16/2023.

Filed Date: 3/15/23.

Accession Number: 20230315-5056.

Comment Date: 5 p.m. ET 4/5/23.

Docket Numbers: ER23-1363-000.

Applicants: PJM Interconnection, L.L.C.

Description: § 205(d) Rate Filing: Original ISA, Service Agreement No. 6822; Queue No. AF1-328 to be effective 2/28/2023.

Filed Date: 3/15/23.

Accession Number: 20230315-5059.

Comment Date: 5 p.m. ET 4/5/23.

Docket Numbers: ER23-1364-000.

Applicants: Tri-State Generation and Transmission Association, Inc.

Description: § 205(d) Rate Filing: Amendment to Rate Schedule FERC No. 26 to be effective 5/15/2023.

Filed Date: 3/15/23.

Accession Number: 20230315-5061.

Comment Date: 5 p.m. ET 4/5/23.

Docket Numbers: ER23-1366-000.

Applicants: Tri-State Generation and Transmission Association, Inc.

Description: § 205(d) Rate Filing: Amendment to Rate Schedule FERC No. 21 to be effective 5/15/2023.

Filed Date: 3/15/23.

Accession Number: 20230315-5068.

Comment Date: 5 p.m. ET 4/5/23.

Docket Numbers: ER23-1371-000.

Applicants: PJM Interconnection, L.L.C.

Description: § 205(d) Rate Filing: Original ISA, SA No. 6819; Queue No. AC1-188 to be effective 2/15/2023.

Filed Date: 3/15/23.

Accession Number: 20230315-5092.

Comment Date: 5 p.m. ET 4/5/23.

Docket Numbers: ER23-1372-000.

Applicants: Gaucho Solar LLC.

Description: Baseline eTariff Filing: Reactive Power Tariff Application to be effective 5/1/2023.

Filed Date: 3/15/23.

Accession Number: 20230315-5100.

Comment Date: 5 p.m. ET 4/5/23.

Docket Numbers: ER23-1373-000.

Applicants: Hillcrest Solar I, LLC.

Description: § 205(d) Rate Filing: Normal filing 2023 to be effective 3/16/2023.

Filed Date: 3/15/23.

Accession Number: 20230315-5104.

Comment Date: 5 p.m. ET 4/5/23.

Docket Numbers: ER23-1374-000.

Applicants: Massachusetts Electric Company.

Description: § 205(d) Rate Filing: 2022 Rate Update Filing for Massachusetts Electric Borderline Sales Agreement to be effective 1/1/2022.

Filed Date: 3/15/23.

Accession Number: 20230315-5107.

Comment Date: 5 p.m. ET 4/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 15, 2023.
Debbie-Anne A. Reese,
Deputy Secretary.

[FR Doc. 2023-05777 Filed 3-20-23; 8:45 am]

BILLING CODE 6717-01-P